DEPARTMENT OF THE INTERIOR

National Park Service

National Register of Historic Places; Notification of Pending Nominations and Related Actions

Nominations for the following properties being considered for listing or related actions in the National Register were received by the National Park Service before February 21, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by March 24, 2009.

J. Paul Loether,
Chief, National Register of Historic Places/National Historic Landmarks Program.

FLORIDA

Sarasota County

Armistead, William Martin, House, 1510 Hyde Park St., Sarasota, 09000165

ILLINOIS

Cook County

IBM Building, 330 N. Wabash, Chicago, 09000166

Ramsey, Charles N., and Herry E. Weese House, 141 Kenilworth Ave., Kenilworth, 09000167

OHIO

Belmont County

Friends Boarding School and Ohio Yearly Meetinghouse Historic District, 61830 Sandy Ridge Rd., Barnesville, 09000168

Rock Hill Presbyterian Church, 56244 High Ridge Rd., Bellaire, 09000169

Hamilton County

Cheviot Fieldhouse, 3729 Robb Ave., Cheviot, 09000170

Knox County

Loveridge, Richard and Ann, House, 12526 Lower Green Valley Rd., Mount Vernon, 09000171

Stark County

Town Pump of East Sparta, The, Jct. of Walnut St. and Main Ave., East Sparta, 09000172

VIRGINIA

Pittsylvania County

Yeatts, John and Nancy, House, VA 795, Chatham, 09000173

Request for REMOVAL has been made for the following resources:

NORTH DAKOTA

Sheridan County

Winter House, NE Sheridan County, Goodrich, 79001775

PENNSYLVANIA

Philadelphia County

Stokely, William J., School, 1844-1860 N. 32nd St., Philadelphia, 86003336

[FR Doc. E9-4832 Filed 3-6-09; 8:45 am]

BILLING CODE 4310-70-P